UNITED STATES PATENT AND TRADEMARK OFFICE

Trademark Trial and Appeal Board (TTAB) Actions (formerly Petition to Cancel a Trademark Registration)

ACTION: Proposed collection; comment request.

SUMMARY: The United States Patent and Trademark Office (USPTO), as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before November 13, 2000.

ADDRESSES: Direct all written comments to Thao P. Nguyen, Acting Records Officer, Office of Data Management, Data Administration Division, (703) 308-7397, USPTO, Suite 310, 2231 Crystal Drive, Washington, DC 20231.

FOR FURTHER INFORMATION CONTACT: Requests for additional information should be directed to Ellen J. Seeherman, United States Patent and Trademark Office (USPTO), Washington, DC 20231, by telephone at (703)308-9300 (ext 206).

SUPPLEMENTARY INFORMATION:

I. Abstract

This collection of information is required by Section 13 of the Trademark Act, 15 U.S.C. 1063, and Section 14 of the Trademark Act, 15 U.S.C. 1064. The Act provides for the Federal registration of trademarks and service marks. Any individual or entity that adopts a trademark or service mark to identify its goods or services may apply to federally register its mark. Section 14 of the Trademark Act allows individuals and entities to file a petition to cancel a registration of a mark. Section 13 of the Trademark Act allows individuals and entities who believe that they would be damaged by the registration of a mark to file an opposition to the registration of a mark.

The United States Patent and Trademark Office (USPTO) administers the Trademark Act according to 37 CFR Part 2, which contains the rules that implement the Trademark Act. 37 CFR Sections 2.111 and 2.112 govern the filing of a Petition to Cancel. 37 CFR Sections 2.101, 2.102 and 2.104 govern the filing of an opposition to the registration of a trademark. Petitions to cancel a trademark registration and oppositions are filed with the Trademark Trial and Appeal Board (TTAB).

II. Method of Collection

By mail, facsimile, or hand carry when the applicant or agent files a petition to cancel a trademark registration or an opposition to the registration of a trademark with the United States Patent and Trademark Office (USPTO).

III. Data

OMB Number: 0651-0040.

Form Number(s): N/A.

Type of Review: Extension of a currently approved collection.

Affected Public: Individuals or households; business or other non-profit; not-for-profit institutions; farms; the Federal Government; and state, local or tribal government.

Estimated Number of Respondents: 61,572 responses per year. The USPTO estimates that of this total, 1,709 petitions to cancel a trademark registration, 9,863 notices of opposition, and 50,000 extensions of time to file an opposition will be submitted per year.

Estimated Time Per Response: The USPTO estimates that it will take the public 45 minutes to complete a petition to cancel a trademark registration, 45 minutes to complete a notice of opposition, and 10 minutes to complete an extension of time to file an opposition. This includes time to gather the necessary information, create the documents, and submit the completed request.

Estimated Total Annual Respondent Burden Hours: 17,179 hours per year.

Estimated Total Annual Respondent Cost Burden: $0 (no capitol start-up or maintenance expenditures are required). Using the professional hourly rate of $175 per hour for associate attorneys in private firms, the USPTO estimates $3,006,325 per year for salary costs associated with respondents.

Item | Estimated time for response | Estimated annual burden hours | Estimated annual responses
Petition to Cancel | 45 minutes | 1,282 | 1,709
Notice of Opposition | 45 minutes | 7,397 | 9,863
Extension of Time to File an Opposition | 10 minutes | 8,500 | 50,000
Total |  | 17,179 | 61,572

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: September 5, 2000.
Thao P. Nguyen,
Acting Records Officer, USPTO, Office of Data Management, Data Administration Division.

[FR Doc. 00-23413, Filed 9-12-00; 8:45 am]

BILLING CODE: 3510-16-P